DEPARTMENT OF THE INTERIOR

Bureau of Land Management

[AZ030-2800-ER-00; AZA-28734]

Notice of Availability of Final Environmental Impact Statement for The Diamond Bar Road Improvement Project

AGENCY: Bureau of Land Management, Interior.

ACTION: Notice of availability of a Final Environmental Impact Statement for the Diamond Bar Road Improvement Project.

SUMMARY: The Bureau of Land Management (BLM), Kingman Field Office, Arizona, has prepared a final environmental impact statement (EIS) in response to an application for a right-of-way across public lands. The EIS analyzes the effects of a proposal to realign and improve approximately 11 miles of the Diamond Bar Road across public lands to access the Hualapai Indian Reservation. The EIS was prepared with assistance from Bureau of Indian Affairs (BIA) and National Park Service (NPS) as cooperating agencies. The BLM will be making the decision to grant a right-of-way, BIA will be making the decision on the expenditure of Federal Highway Trust Funds to construct the road, and NPS has special expertise concerning the effect on the National Natural Landmark, which the proposed road traverses. The analysis was prepared under the authority of the National Environmental Policy Act of 1969 and the Federal Land Policy and Management Act of 1976.

DATES: BLM and BIA will issue separate Records of Decision no earlier than 30 days from the date the Environmental Protection Agency publishes the notice of filing for the final EIS in the Federal Register.

ADDRESSES: Copies of the final EIS may be obtained from the Bureau of Land Management, Kingman Field Office, 2475 Beverly Avenue, Kingman, Arizona 86401.

FOR FURTHER INFORMATION CONTACT: Don McClure, phone: (928) 692-4400; e-mail, don_mcclure@blm.gov; address, BLM, Kingman Field Office, 2475 Beverly Avenue, Kingman, Arizona 86401.

SUPPLEMENTARY INFORMATION: Diamond Bar Road provides access to Grand Canyon West, mainly for commercial and private vehicles originating from Las Vegas. Grand Canyon West is a development on the Hualapai Indian Reservation near the rim of the Grand Canyon. This development now consists of an airport and terminal building, a food service facility, restrooms, and a permit office. Implementing the 1994 Master Plan for Grand Canyon West is expected to increase the number of visitors up to sixfold over a 10-year period. This increase would greatly increase the number of vehicles on Diamond Bar Road. The proposed road improvement would accommodate this increased volume by providing a roadway designed for up to 2,400 vehicles per day.

Management concerns that have been addressed in the final EIS include impacts on vegetation, visual quality, recreation, cultural resources, socioeconomic conditions, public safety, and the Joshua Tree Forest Area of Critical Environmental Concern. Studies conducted include a native plant inventory, biological evaluation, cultural resource survey, traffic study, and visual impact analysis. Tribal consultation is ongoing under section 106 of the National Historic Preservation Act of 1966, as amended. The EIS has been prepared by an interdisciplinary team of resource specialists in vegetation, wildlife, visual quality, archaeological and traditional cultural resources, soils, range management, realty, and roadway design.

There were 41 comment letters received on the draft EIS. The concerns in these letters have been addressed in the final EIS. Most of the concerns were about the Entrance Realignment Option and related to the following: Building the road through a residential area and impacting residential quality of life; traffic, including traffic safety; noise; air quality; wildlife and Joshua trees; visual impacts; private property; access; and economics and efficiency. The BLM Preferred Alternative in the final EIS documents the preference of not using the Entrance Realignment Option. The final EIS addresses the above concerns as well as providing responses to individual comments.

If you wish to comment on the final EIS, please mail or hand deliver comments to the address listed in the ADDRESSES section of this notice. Comments will be accepted during this 30-day period with the comments being conveyed to the BLM Field Manager in Kingman, Arizona, who is the person authorized to make the decision for BLM on this project. The public may review the comments, including names and street addresses of respondents, at the above address from 7:30 a.m. to 4:30 p.m., Monday through Friday, except holidays. The comments may be published as part of the project record or other related documents. Individual respondents may request confidentiality. If you wish to withhold your name or street address from public review or disclosure under the Freedom of Information Act, you must state this request prominently at the beginning of your written comment. BLM will honor such requests to the extent allowed by law. The public may inspect in its entirety any submission from organizations or businesses or from representatives or officials of organizations or businesses.

Dated: June 3, 2002.
Willie R. Taylor,
Director, Office of Environmental, Policy and Compliance.

[FR Doc. 02-16828 Filed 7-1-02; 1:09 pm]

BILLING CODE 4310-32-P